DEPARTMENT OF HEALTH AND HUMAN SERVICES

Office of the Secretary

Establishment of the Secretary's Advisory Committee on Genetics, Health, and Society

ACTION: Notice of establishment.

SUMMARY: The Secretary of the Department of Health and Human Services (HHS) has determined that the establishment of the Secretary's Advisory Committee on Genetics, Health, and Society is necessary and in the public interest in connection with the duties of the Secretary, HHS, and that such duties can best be performed through the advice and counsel of such a group.

The Secretary's Advisory Committee on Genetics, Health, and Society is established to: (1) Provide a forum for expert discussion and deliberation and the formulation of advice and recommendations on the range of complex and sensitive medical, ethical, legal and social issues raised by new technological developments in human genetics; (2) assist the Department of Health and Human Services and, at their request, other Federal agencies in exploring issues raised by the development and application of genetic technologies; and, (3) make recommendations to the Secretary of Health and Human Services concerning how such issues should be addressed.

The function of the committee is to explore, analyze, and deliberate on the broad range of human health and societal issues raised by the development and use, as well as potential misuse, of genetic technologies and make recommendations to the Secretary of Health and Human Services (Secretary), and other entities as appropriate. The scope of the Committee's charge includes assessing how genetic technologies are being integrated into health care and public health; studying the clinical, ethical, legal and societal implications of new medical applications, such as preimplantation genetic diagnosis, and emerging technological approaches to clinical testing, identifying opportunities and gaps in research and data collection efforts; exploring the use of genetics in bioterrorism; examining current patent policy and licensing practices for their impact on access to genetic technologies; analyzing uses of genetic information in education, employment, insurance, including health, disability, long-term care, and life, and law, including family, immigration, and forensics; and serving as a public forum for discussion of emerging scientific, ethical, legal and social issues raised by genetic technologies.

The Committee shall consist of a core of 13 members, including the Chair. Members and the Chair shall be selected by the Secretary, or designee, from authorities knowledgeable about molecular biology, human genetics, health care, public health, bioterrorism, ethics, forensics, law, psychology, social sciences, education, occupational health, insurance, and other relevant fields. Of the appointed members, at least two members shall be specifically selected for their knowledge of consumer issues and concerns and the view and perspectives of the general public.

Unless renewed by appropriate action prior to its expiration, the Secretary's Advisory Committee on Genetics, Health, and Society charter will expire two years from the date of establishment.

Dated: October 17, 2002.
LaVerne Stringfield,
Director, NIH Office of Federal Advisory Committee Policy.

[FR Doc. 02-27030 Filed 10-22-02; 8:45 am]

BILLING CODE 4140-01-M